DEPARTMENT OF THE INTERIOR

Bureau of Indian Affairs

Receipt of Petitions for Federal Acknowledgment of Existence as an Indian Tribe

AGENCY: Bureau of Indian Affairs, Interior.

ACTION: Notice.

This notice is published in the exercise of authority delegated by the Secretary of the Interior to the Assistant Secretary—Indian Affairs by 209 DM 8.

Pursuant to 25 CFR 83.9(a) notice is hereby given that the following groups have each filed a letter of intent to petition for acknowledgment by the Secretary of the Interior that the group exists as an Indian tribe. Each letter of intent was received by the Bureau of Indian Affairs (BIA) on the date indicated, and was signed by members of the group's governing body.

Lenape Nation, c/o Mr. Robert Ruth, 115 Hancock Avenue, Norristown, Pennsylvania 19401. May 16, 2000.

Avogel Nation of Louisiana, c/o Mr. Terryl M. Francisco, 517 Overton Street, Marksville, Louisiana 71351. November 13, 2000.

Little Owl Band of Central Michigan Indians, c/o Mr. Raymond Dowell, P.O. Box 244, Sidney, Michigan 48885-0244. November 27, 2000.

The Western Pequot Tribal Nation of New Haven, c/o Mr. Samuel Ephraim Thomas, P.O. Box 27219, West Haven, Connecticut 06516. November 27, 2000.

Rappahannock Indian Tribe, Inc., c/o Mr. Nokomis F. Lemons, 6754 Tidewater Terrace, Chance, Virginia 22438. January 31, 2001.

Lower Eastern Ohio Mekojay Shawnee, c/o Mr. Russell Sharp, 2902 U.S. Highway 22 West, Wilmington, Ohio 45177. March 5, 2001.

The Chickamauga Notowega Creeks, c/o Ms. Govinda Sanyal, 85 Regis Drive, Staten Island, New York 10314. March 5, 2001.

Avogel, Okla Tasannuk, Tribe/Nation, c/o Mr. Miburn John Mayeux, P.O. Box 1007, Duson, Louisiana 70529-1007. March 19, 2001.

Schaghticoke Indian Tribe, c/o Mr. Allan Russell, P.O. Box 111, Kent, Connecticut 06757. May 11, 2001.

Calaveras Band of Miwuk Indians, c/o Mr. Charles Wilson, P.O. Box 899, West Point, California 95255. July 31, 2001.

Chickahominy Indians, Eastern Division, Inc., c/o Mr. Marvin D. Bradby, 12111 Indian Hill Lane, Providence Forge, Virginia 23140. September 6, 2001.

Xolon Salinan Tribe, c/o Ms. Donna Haro, P.O. Box 5337, Bay Point, California 94565. September 18, 2001.

Phoenician Cherokee II—Eagle Tribe of Sequoyah, c/o Mr. Albert L. Bynum, 504 Brewton Street, Gadsden, Alabama 35903. September 18, 2001.

Nansemond Indian Tribal Association, c/o Mr. Barry W. Bass, P.O. Box 2095, Portsmouth, Virginia 23702. September 20, 2001.

Schaghticoke Tribe, c/o Ms. Mildred Reed Crosley, 382 Connecticut Avenue, Bridgeport, Connecticut 06607. September 27, 2001.

United Cherokee Intertribal, c/o Ms. Gina Williamson, 5005 Elizabeth Street, Guntersville, Alabama 35976. November 8, 2001.

This is a notice of receipt of these letters of intent to petition and does not constitute notice that the petitions are under active consideration. Notice of active consideration will be sent by mail to the petitioner and other interested parties at the appropriate time.

Under Section 83.9(a) of the Federal regulations, third parties may submit factual and/or legal arguments in support of or in opposition to each group's petition and may request to be kept informed of all general actions affecting the petition. Third parties should provide copies of their submissions to the petitioner. Any information submitted will be made available on the same basis as other information in the BIA's files. The petitioner will be provided an opportunity to respond to such submissions prior to a final determination regarding the petitioner's status.

The petitions may be examined, by appointment, in the Department of the Interior, BIA, Branch of Acknowledgment and Research, MS: 4660-MIB, 1849 C Street, NW., Washington, DC 20240; Telephone: (202) 208-3592.

Dated: December 11, 2001.
Neal A. McCaleb,
Assistant Secretary—Indian Affairs.

[FR Doc. 01-31682 Filed 12-26-01; 8:45 am]

BILLING CODE 4310-02-P